DEPARTMENT OF VETERANS AFFAIRS

Funding Availability: Homeless Providers Grant and Per Diem Program

AGENCY: Department of Veterans Affairs.

ACTION: Notice of funding availability.

SUMMARY: The Department of Veterans Affairs (VA) is announcing the availability of 1-year renewal funding for the 11 currently operational Fiscal Year (FY) 2020 VA Homeless Providers Grant and Per Diem (GPD) Program Special Need Grant recipients and their collaborative VA Special Need partners (as applicable) to submit renewal applications for assistance under the Special Need Grant component of VA's Homeless Providers GPD Program. The focus of this NOFA is to encourage applicants to continue services to the homeless Special Need Veteran population. This NOFA contains information concerning the program, application process, and amount of funding available.

DATES: February 12, 2020.

An original, signed, dated, and completed renewal application for assistance under VA's GPD Program and associated documents must be received by the GPD Program Office by 4:00 p.m. Eastern Time on April 27, 2020. (See application requirements below.)

Applications may not be sent by facsimile or email. In the interest of fairness to all competing applicants, this deadline is firm as to date and time, and VA will treat any application received after the deadline as ineligible for consideration. Applicants should take this firm deadline into account and make early submission of their materials to avoid risk of ineligibility due to unanticipated delays or other delivery-related problems.

Applications must be physically delivered (e.g., in person, or by U.S. Postal Service, FedEx, United Parcel Service, or any other type of courier). The VA GPD National Program Office staff will accept the application and date stamp it immediately at the time of arrival. This is the date and time that will determine if the deadline is met for these types of deliveries.

ADDRESSES: An original signed, dated, completed, and collated grant renewal application and all required associated documents must be submitted to the following address: VA National Grant and Per Diem Program Office, 10770 North 46th Street, Suite C-200, Tampa, Florida 33617. Applications must be received by the application deadline. Applications must arrive as a complete package. Materials arriving separately will not be included in the application package for consideration and may result in the application being rejected or not funded.

FOR FURTHER INFORMATION CONTACT: Jeffery L. Quarles, Director, Grant/Per Diem, (673/GPD), VA National Grant and Per Diem Program Office, 10770 North 46th Street, Suite C-200, Tampa, Florida 33617, 1 (877) 332-0334. (This is a toll-free number.)

SUPPLEMENTARY INFORMATION:

Funding Opportunity Title: Grant and Per Diem Special Need Grant Program.

Announcement Type: Renewal.

Funding Opportunity Number: VA-GPD-SN-FY2020.

Catalog of Federal Domestic Assistance Number: 64.024, VA Homeless Providers Grant and Per Diem Program.

I. Funding Opportunity Description

A. Purpose: This NOFA announces the availability of funds to provide 1-year funding assistance under VA's Homeless Providers GPD Program for the 11 operational GPD Special Need recipients and their collaborative VA partners (as applicable). Eligible applicants may obtain grant assistance to cover additional operational costs that would not otherwise be incurred, but for the fact that the recipient is providing supportive housing beds and services for the following Special Need homeless Veteran populations:

(1) Women;

(2) Chronically mentally ill; or

(3) Individuals who have care of minor dependents.

B. Definitions: Section 61.1 of title 38, Code of Federal Regulations contains definitions of terms used in the GPD Program. Eligible applicants should review these definitions to ensure their proposed populations meet the specific requirements.

Funding applied for under this NOFA may be used for the provision of service and operational costs to facilitate the following for each targeted group:

Women

(1) Ensure transportation for women, especially for health care and educational needs; and

(2) Address safety and security issues including segregation from other program participants if deemed appropriate.

Chronically Mentally Ill

(1) Help participants join in, and engage with, the community;

(2) Facilitate reintegration with the community and provide services that may optimize reintegration, such as life-skills education, recreational activities, and follow-up case management;

(3) Ensure that participants have opportunities and services for re-establishing relationships with family;

(4) Ensure adequate supervision, including supervision of medication and monitoring of medication compliance; and

(5) Provide opportunities for participants, either directly or through referral, to obtain other services particularly relevant for a chronically mentally ill population, such as vocational development, benefits management, fiduciary or money management services, medication compliance, and medication education.

Individuals Who Have Care of Minor Dependents

(1) Ensure transportation for individuals who have care of minor dependents, and their minor dependents, especially for health care and educational needs;

(2) Provide directly or offer referrals for adequate and safe child care;

(3) Ensure children's health care needs are met, especially age-appropriate wellness visits and immunizations; and

(4) Address safety and security issues, including segregation from other program participants if deemed appropriate.

C. Eligibility Information: To be eligible, an applicant must be a currently operational FY 2020 VA Homeless Providers GPD Program Special Need Grant recipient with or without a collaborative VA Special Need partner, who was awarded this grant based on the NOFA published in the Federal Register on April 22, 2019, 84 FR 16762. Furthermore, if the applicant currently has a collaborative project and its VA partner no longer wishes to continue, the applicant will be ineligible for an award under this NOFA.

D. Cost Sharing or Matching: None.

E. Authority: 38 United States Code §§ 2011, 2012, 2061, as implemented in regulation at 38 Code of Federal Regulations (CFR) 61.

II. Award Information

A. Overview: This NOFA announces the availability of 1-year renewal funding for use in FY 2021 for the 11 currently operational FY 2020 VA Homeless Providers GPD Program Special Need Grant recipients and their collaborative VA Special Need partners (as applicable) to submit renewal applications for assistance under the Special Need Grant component of VA's Homeless Providers GPD Program.

B. Funding Priorities: None.

C. Allocation of Funds: Approximately $3 million is available for the current Special Need Grant component of VA's Homeless Providers GPD Program. Funding will be for a period beginning on October 1, 2020 and ending on September 30, 2021. The Special Need per diem payment will be the lesser of:

(1) One hundred percent of the daily cost of care estimated by the Special Need Grant recipient for furnishing services to homeless Veterans with special needs that the Special Need Grant recipient certifies to be correct, minus any other sources of income; or

(2) Two times the current VA State Home Program per diem rate for domiciliary care.

Special Need awards are subject to: FY 2020 funds availability; the recipient meeting the performance goals as stated in the grant application; statutory and regulatory requirements; and annual inspections.

Applicants should ensure their funding requests and operational costs are based on the 12-month period above and should be in line with expenditures from the prior year. Requests cannot exceed the amount obligated under their FY 2020 award. Applicants should note unexpended funding from FY 2020 awards will be deobligated.

D. Funding Actions: Applicants will be notified of any further additional information needed to confirm or clarify information provided in the application. Applicants will then be notified of the deadline to submit such information. If an applicant is unable to meet any of the conditions for grant award within the specified timeframe, VA reserves the right to not award funds to that applicant and to use the funds available for other Special Need applicants. Following receipt and confirmation that this information is accurate and in acceptable form, the applicant will execute an agreement with VA in accordance with 38 CFR 61.61.

E. Grant Award Period: Applicants that are selected will have a maximum of 1 year beginning on October 1, 2020, and ending on September 30, 2021, to utilize the Special Need funding. Funds unexpended after the September 30, 2021, deadline will be deobligated.

F. Funding Restrictions: No part of a Special Need Grant may be used for any purpose that would significantly change the scope of the specific GPD project for which a capital GPD was awarded. As a part of the review process, VA will review the original project and subsequent approved program changes of the previous FY 2016 original Special Need applications and the FY 2020 renewal grants to ensure significant scope changes have not occurred, displacing other homeless Veteran populations.

Note: Changes to the Special Need population the applicant currently serves will not be allowed.

Special Need funding may not be used for capital improvements or to purchase vans or real property. However, the leasing of vans or real property may be acceptable. Questions regarding acceptability should be directed to VA's National GPD Program Office at the number listed in Contact Information. Applicants may not receive Special Need funding to replace funds provided by any Federal, state, or local government agency or program to assist homeless persons.

III. Application and Submission Information

Content and Form of Application: Applicants should ensure that they include all required documents in their application and carefully follow the format described below. Submission of an incorrect, incomplete, or incorrectly formatted application package will result in the application being rejected at the beginning of the process. If an applicant is unable to meet any conditions for grant award within the specified time frame, VA reserves the right to not award funds and to use the funds available for other Special Need applicants.

IV. Application Documentation Required

A. Letter from Applicant: Applicants must submit a letter on their organization letterhead stating the intent to apply for renewal funding and agreement for VA to evaluate their previously awarded FY 2016 Special Need application and FY 2020 renewal grant for scoring purposes. In addition, the letter must state the model (see listing below) to which that application will be linked and that the applicant agrees, as a condition of funding under this NOFA, that they will provide the services as outlined in that application, along with any VA-approved changes in scope, and that the applicant's FY 2016 required forms and certifications still apply for the period of this award.

B. Models: Bridge Housing; Low Demand; Clinical Treatment; Hospital to Housing; or Service Intensive Transitional Housing.

C. Performance Goals: Applicants must submit documentation of the applicant meeting the performance goals as stated in the FY 2016 original grant Special Need application and carried forward to their FY 2020 renewal grant, as evidenced by their last VA project inspection.

D. Letter from VA Collaborative Partner (if applicable): If the FY 2016 Special Need Grant was a collaborative grant, the applicant must submit an updated letter of commitment, or an updated Memorandum of Agreement (MOA) from the VA collaborative partner stating that VA will continue to meet its objectives, or provide its duties as outlined in the original MOA in FY 2016.

Note: If the applicant currently has a collaborative project and its VA partner no longer wishes to continue, then the applicant will be ineligible for an award under this NOFA.

E. Other Submission Requirements: None.

F. Submission Dates and Times: An original, signed, and dated application package, including all required documents, must be received in the GPD Program Office: VA National Grant and Per Diem Program Office, 10770 North 46th Street, Suite C-200, Tampa, Florida 33617, by 4:00 p.m. Eastern Standard Time on the application deadline date.

Applications must be received by the application deadline. Applications must arrive as a complete package, to include VA collaborative partner materials (see Application Requirements). Materials arriving separately will not be included in the application package for consideration and may result in the application being rejected or not funded.

V. Application Review Information

A. Criteria for Special Need Grants: Rating criteria may be found at 38 CFR 61.40.

B. Review and Selection Process: Review and selection process may be found at 38 CFR 61.40.

Selections will be made based on criteria described in the FY 2016 application and additional information as specified in this NOFA.

C. Award Notice: Although subject to change, the GPD Program Office expects to announce grant awards during the late fourth quarter of FY 2020 (September). The initial announcement will be made by news release which will be posted on VA's National GPD Program website at www.va.gov/homeless/gpd.asp. Following the initial announcement, the GPD Program Office will mail notification letters to the grant recipients. Applicants who are not selected will be mailed a declination letter within 2 weeks of the initial announcement.

D. Administrative and National Policy: It is important to be aware that VA places great emphasis on responsibility and accountability. VA has procedures in place to monitor services provided to homeless Veterans and outcomes associated with the services provided in grant and per diem-funded programs. Applicants should be aware of the following:

(1) Awardees will be required to support their request for payments with adequate fiscal documentation as to income and expenses.

(2) All awardees that are selected in response to this NOFA must meet the requirements of the current edition of the Life Safety Code of the National Fire Protection Association as it relates to their specific facility. Applicants should note that all facilities are to be protected throughout by an approved automatic sprinkler system unless a facility is specifically exempted under the Life Safety Code. Applicants should consider this when submitting their grant applications, as no additional funds will be made available for capital improvements under this NOFA.

(3) Each program receiving Special Need funding will have a liaison appointed from a nearby VA medical facility to provide oversight and monitor services provided to homeless Veterans in the program.

(4) Monitoring will include at a minimum, a quarterly review of each GPD grantee's progress toward meeting performance goals, including the applicant's internal goals and objectives in helping Veterans attain housing stability, adequate income support, and self-sufficiency as identified in each GPD grantee's original application. Monitoring will also include a review of the agency's income and expenses as they relate to this project to ensure payment is accurate.

Each funded program will participate in the VA's national program monitoring and evaluation as these monitoring procedures will be used to determine successful accomplishment of these housing outcomes for each GPD-funded program.

Applicants with questions regarding the funding from previous Special Need awards should contact the VA Homeless Providers GPD Program Office prior to application.

A full copy of the regulations governing the GPD Program is available at the GPD website at http://www.va.gov/HOMELESS/GPD.asp.

Signing Authority

The Secretary of Veterans Affairs, or designee, approved this document and authorized the undersigned to sign and submit the document to the Office of the Federal Register for publication electronically as an official document of the Department of Veterans Affairs. Pamela Powers, Chief of Staff, Department of Veterans Affairs, approved this document on February 6, 2020, for publication.

Luvenia Potts,
Regulation Development Coordinator, Office of Regulation Policy & Management, Office of the Secretary, Department of Veterans Affairs.

[FR Doc. 2020-02769 Filed 2-11-20; 8:45 am]

BILLING CODE 8320-01-P